DEPARTMENT OF ENERGY

Federal Energy Regulatory Commission

[Docket No. CP01-68-000]

Indiana Gas Company, Inc.; Notice of Application

January 24, 2001.

On January 19, 2001, Indiana Gas Company, Inc. (Indiana Gas), 1630 North Meridian Street, P.O. Box 44945, Indianapolis, Indiana 46244-0945, filed in Docket No. CP01-68-000 an application pursuant to Section 7(f) of the Natural Gas Act (NGA) to expand its service area determination in Jefferson and Oldham Counties, Kentucky to include an area two miles north and one-half mile south of the existing area, all as more fully set forth in the application which is on file with the Commission and open to public inspection. The filing may be viewed at http://www.ferc.fed.us/online/rims.htm (call 202-208-2222 for assistance).

Indiana Gas states that the expanded service area will give Indiana Gas the flexibility needed to purchase the right-of-way associated with a new 12.6-mile pipeline in the two counties to be used to provide reliable natural gas service to existing and future retail residential, commercial and industrial customers in the Greater Louisville Metropolitan Area, in particular Clark and Floyd Counties, Indiana. Indiana Gas indicates that, although the needed construction could occur within the existing right-of-way, such an approach would adversely affect landowners because of the significant residential development along the existing facilities subsequent to their construction in 1952.

In addition to the request to expand the Section 7(f) service area determination, Indiana Gas also requests (1) a finding that Indiana Gas qualifies as a local distribution company for purposes of Section 311 of the Natural Gas Policy Act of 1978 (NGPA), and (2) a waiver of the Commission's accounting and reporting requirements and other regulatory requirements ordinarily applicable to natural gas companies under the Natural Gas Act and the NGPA. Indiana Gas also requests that the Commission clarify that its service area determination also includes Jefferson County, Kentucky.

Questions regarding the details of this proposed project should be directed to John E. Fansher, Manager, Land Department, at (317) 301-0598, or in writing to his attention at the above address.

There are two ways to become involved in the Commission's review of this project. First, any person wishing to obtain legal status by becoming a party to the proceedings for this project should, on or before February 14, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Non-party commenters will not receive copies of all documents filed by other parties or issued by the Commission and will not have the right to seek court review of the Commission's final order.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-2548 Filed 1-29-01; 8:45 am]

BILLING CODE 6717-01-M